DEPARTMENT OF TRANSPORTATION

Federal Aviation Administration

14 CFR Part 71

Proposed Modification of Class C Airspace at Luis Munoz Marin International Airport, San Juan, PR; Informal Airspace Meeting

AGENCY: Federal Aviation Administration (FAA), Department of Transportation (DOT).

ACTION: Notice of meeting.

SUMMARY: This notice announces a fact-finding informal airspace meeting regarding a plan to modify the Class C Airspace at Luis Munoz Marin International Airport (TJSJ), San Juan, PR. The meeting will be a virtual format via the Zoom platform. The purpose of the meeting is to solicit aeronautical comments on the proposal's effects on local aviation operations. All comments received during the meeting, and the subsequent comment period, will be considered prior to the issuance of a notice of proposed rulemaking.

DATES: The meeting will be held on Tuesday, February 28, 2023, from 5 to 7 p.m. Atlantic Standard Time (4 to 6 p.m. Eastern Standard Time). Comments must be received on or before March 28, 2023.

ADDRESSES: Send comments on the proposal, in triplicate, to: Matthew Cathcart, Acting Manager, Operations Support Group, Eastern Service Area, Air Traffic Organization, Federal Aviation Administration, 1701 Columbia Avenue, College Park, Georgia 30337 or via email to: 9-AJO-ZSU-Class-C-Comments@faa.gov.

FOR FURTHER INFORMATION CONTACT: John Melecio, Air Traffic Manager, San Juan CERAP, 5000 Carretera 190, Carolina, Puerto Rico 00979. Telephone Number 787-253-8790. Email: John.Melecio@faa.gov.

SUPPLEMENTARY INFORMATION:

Meeting Procedures

(a) Registration: To attend the meeting, the public can register here: https://us06web.zoom.us/webinar/register/WN_dX3NizSvQV-ab1vzFbxn-Q.

(b) The meeting will be open to all persons on a space-available basis. There is no admission fee or other charge to attend and participate. The meeting will be informal in nature and will be conducted by one or more representatives of the FAA Eastern Service Area.

(c) Each participant will be given an opportunity to deliver comments or make a presentation, although a time limit may be imposed. Only comments concerning the plan to modify the San Juan Class C airspace area will be accepted.

(d) Each person wishing to make a presentation will be asked to note their intent when registering for the meeting so those time frames can be established. This meeting will not be adjourned until everyone registered to speak has had an opportunity to address the panel. This meeting may be adjourned at any time if all persons present have had an opportunity to speak.

(e) Position papers or other handout material relating to the substance of the meeting will be accepted. Participants submitting papers or handout materials should send them to the mail or email address noted in the COMMENTS section, above.

(f) The meeting will be available on the FAA YouTube channel. A summary of the comments made at the meeting will be filed in the rulemaking docket.

Information gathered through this meeting will assist the FAA in drafting a notice of proposed rulemaking (NPRM) that would be published in the Federal Register. The public will be afforded the opportunity to comment on any NPRM published on this matter.

A graphic depiction of the proposed airspace modifications may be viewed at the following URL: www.faa.gov/air_traffic/community_engagement/sju.

Agenda for the Meeting

—Presentation of Meeting Procedures

—Informal Presentation of the Planned Class C Airspace Area Modification

—Public Presentations

—Discussion and Questions

—Closing Comments

Authority: 49 U.S.C. 106(f), 106(g); 40103, 40113, 40120; E.O. 10854, 24 FR 9565, 3 CFR, 1959-1963 Comp., p. 389.

Issued in Washington DC, on December 6, 2022.
Scott M. Rosenbloom,
Manager, Airspace Rules and Regulations.

[FR Doc. 2022-26910 Filed 12-9-22; 8:45 am]

BILLING CODE 4910-13-P